DEPARTMENT OF DEFENSE

Office of the Secretary

Renewal of Department of Defense Federal Advisory Committee—Board of Visitors, National Defense University

AGENCY: Department of Defense (DoD).

ACTION: Renewal of federal advisory committee.

SUMMARY: The DoD is publishing this notice to announce that it is renewing the Board of Visitors, National Defense University (BoV NDU).

FOR FURTHER INFORMATION CONTACT: Jim Freeman, DoD Advisory Committee Management Officer, 703-692-5952.

SUPPLEMENTARY INFORMATION: The BoV NDU is being renewed in accordance with the Federal Advisory Committee Act (FACA) (5 U.S.C. appendix) and 41 CFR 102-3.50(d). The charter and contact information for the BoV NDU's Designated Federal Officer (DFO) are found at https://www.facadatabase.gov/FACA/apex/FACAPublicAgencyNavigation.

The BOV NDU provides the Secretary of Defense and Deputy Secretary of Defense (“the DoD Appointing Authority”), or the Chairman of the Joint Chiefs of Staff (CJCS) with independent advice and recommendations on matters pertaining to the National Defense University specifically on matters pertaining to educate joint warfighters and other national security leaders in critical thinking and the creative application of military power to inform national strategy and globally integrated operations, under conditions of disruptive change, in order to prevail in war, peace, and competition. The BOV NDU is composed of no more than 12 members. Individual members are appointed according to DoD policy and procedures, and serve a term of service of one-to-four years with annual renewals. One member will be appointed as Chair of the BoV NDU. No member, unless approved according to DoD policy and procedures, may serve more than two consecutive terms of service on the BoV NDU, or serve on more than two DoD Federal advisory committees at one time.

BoV NDU members who are not full-time or permanent part-time Federal civilian officers or employees, or active duty members of the Uniformed Services, are appointed as experts or consultants, pursuant to 5 U.S.C. 3109, to serve as special government employee members. BoV NDU members who are full-time or permanent part-time Federal civilian officers or employees, or active duty members of the Uniformed Services are appointed pursuant to 41 CFR 102-3.130(a), to serve as regular government employee members.

All BoV NDU members are appointed to provide advice based on their best judgment without representing any particular point of view and in a manner that is free from conflict of interest. Except for reimbursement of official BoV NDU-related travel and per diem, members serve without compensation.

The public or interested organizations may submit written statements about the BoV NDU's mission and functions. Written statements may be submitted at any time or in response to the stated agenda of planned meeting of the BoV NDU. All written statements shall be submitted to the DFO for the BoV NDU, and this individual will ensure that the written statements are provided to the membership for their consideration.

Dated: August 29, 2022.
Aaron T. Siegel,
Alternate OSD Federal Register, Liaison Officer, Department of Defense.

[FR Doc. 2022-18942 Filed 8-31-22; 8:45 am]

BILLING CODE 5001-06-P